DEPARTMENT OF HEALTH AND HUMAN SERVICES

Office of the Secretary

[Document Identifier: HHS-OS-19116-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before May 21, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-19116-60D for reference.

Information Collection Request Title: Out, Proud, and Healthy Fitness Project.

Abstract: The Office of Women's Health (OWH) and the Department of Health and Human Services (HHS) Coordinating Committee on Lesbian, Gay, Bi-sexual and Transgender (LGBT) Issues have prioritized the collection of health data on LGBT populations. In response, OWH funded an initiative to identify and test effective and innovative ways of reducing obesity in lesbian and bisexual women. The planned intervention developed in St. Louis Missouri is called the “Out, Proud, and Health Fitness Project” has been developed to address what is currently known about local LB women's community norms, common barriers to health, patterns of physical and mental health access, and preferences for health services and health outcomes. The interventions will offer randomized controlled trial intervention-fitness education classes, evidence-based personalized exercise routines, a gym membership, a smart pedometer to motivate users to increase physical activity and health education classes focused on increasing healthy lifestyle choices. The project is scheduled for one year.

Need and Proposed Use of the Information: Addresses barriers to health for the LB community, and promotes overall health and wellbeing. The intervention will incorporate community-identified weight loss/risk reduction needs of this population. Following the completion of the surveys and interventions, collected data will be used to develop a “Toolkit” that other organizations can use to promote healthy weight in older LB women.

Likely Respondents: Lesbian and bi-sexual women forty years of age and older.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden-Hours
Form name | Number of respondents | Number of responses per respondent | Average burden per response (in hours) | Total burden hours
Enrollment Survey | 160 | 1 | 37/60 | 99
Baseline Survey | 150 | 1 | 60/60 | 150
4-month Follow-up Assessment Survey | 140 | 1 | 46/60 | 107
Post Intervention Focus Group | 20 | 1 | 90/60 | 30
12-month Follow-up Assessment Survey | 120 | 1 | 42/60 | 84
Total |  |  |  | 470

OS specifically requests comments on (1) The necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2013-06552 Filed 3-21-13; 8:45 am]

BILLING CODE 4150-33-P